DEPARTMENT OF THE INTERIOR

Bureau of Land Management

[AK-010-08-1410-PN]

Notice of Closure of Aviation Areas at Campbell Tract Facility Administrative Site

AGENCY: Bureau of Land Management, Interior.

ACTION: Notice of Closure.

SUMMARY: In the interest of public and operational safety, the Bureau of Land Management is closing four areas used by aircraft at its Campbell Tract Facility in Anchorage, Alaska, to public or private entry, access or use. The four areas are: The Campbell Airstrip and the Campbell Tract Facility heliport, aircraft ramp, and aircraft taxiway between the airstrip and aircraft ramp areas. Recreational uses authorized on other portions of the Campbell Tract and the adjacent Municipality of Anchorage Far North Bicentennial Park are prohibited within the four areas named above. This order is issued under the authority of 43 CFR 8364.1 and affects the following public lands:

Seward Meridian, Alaska.

T. 12 N., R. 3 W.

Portions of Sections 2 and 3.

DATES: The closure is effective upon publication of this notice and will remain in effect year-round until amended or rescinded by the authorized officer.

ADDRESSES: Maps of the affected area and closure information are available at the BLM Anchorage Field Office, 6881 Abbott Loop Road, Anchorage, Alaska.

FOR FURTHER INFORMATION, CONTACT: Mike Zaidlicz, Field Manager, Anchorage Field Office, 6881 Abbott Loop Road, Anchorage, Alaska 99507, (907) 267-1246 or toll free (800) 478-1263.

SUPPLEMENTARY INFORMATION: Pursuant to 43 CFR 8364.1, the following areas within the 730-acre administrative site known as the Campbell Tract Facility, located in Anchorage, Alaska, and managed by the Bureau of Land Management Anchorage Field Office, are closed to all public and private access, use and entry: (1) Campbell Airstrip, (2) Campbell Tract Facility heliport, (3) Campbell Tract Facility aircraft ramp, and (4) Campbell Tract Facility aircraft taxiway between the airstrip and aircraft ramp. These affected areas are actively used by aircraft on an intermittent basis. This closure is necessary to ensure public safety, as well as operational management and safety.

Within the areas described above:

1. No person shall use, remain on, occupy, or access any land unless specifically authorized by the BLM.

2. All private or public use, including recreational use allowed on other portions of the Campbell Tract Facility and adjacent Municipality of Anchorage Far North Bicentennial Park lands, is prohibited.

3. All access or use by people and domestic animals, including, but not limited to, dogs and horses, is prohibited.

This closure does not apply to:

1. Any federal, state, or local government officer or member of an organized rescue or firefighting force engaged in official fire, emergency, or law enforcement activities, including associated vehicles and/or aircraft used for administrative and emergency purposes.

2. Federal, state, or local government employees while on official business of their respective agencies and engaged in official duties, including associated vehicle use for administrative and emergency purposes.

3. Persons specifically authorized by the BLM to use, remain on, or occupy lands in the area affected by this notice, including associated vehicle or domestic animal use.

4. That portion of Coyote Trail that crosses the aircraft taxiway, which will only be closed during aircraft taxi operations.

5. Emergency use of Campbell Airstrip by aircraft.

After publication of this notice, signs will be posted to inform the public that the affected areas are closed to unauthorized entry, use and/or access. In accordance with 43 CFR 8360.0-7, violation of this closure order is punishable by a fine not to exceed $1,000 and/or imprisonment not to exceed 12 months.

Thomas P. Lonnie,
State Director.

[FR Doc. E7-24251 Filed 12-13-07; 8:45 am]

BILLING CODE 4310-JA-P